GENERAL SERVICES ADMINISTRATION

[GSA Bulletin FTR 2003-B1]

eTravel Initiative

AGENCY: Office of Governmentwide Policy (MTT), GSA.

ACTION: Notice of bulletin.

SUMMARY: In accordance with GSA Bulletin FTR 26 issued July 25, 2002 (67 FR 48654), the attached bulletin is issued to inform agencies of FedTrip as the online booking service available governmentwide for arranging temporary duty travel. Agencies will benefit from direct cost savings and management efficiencies by adopting self-service travel capabilities. Each Executive agency will be required to adopt an online booking engine as part of their self-service travel process. Agencies are requested to immediately develop a plan(s) (e.g., budget and personnel alignment) to achieve a high level of online booking by December 2003. Such plan(s) will prepare agencies for implementation of the eTravel service, which is expected to become available by December 2003. Upon implementation of the eTravel service, agencies will be required to measure the use of self-service travel planning and reservations functions of the eTravel service for arranging temporary duty travel.

EFFECTIVE DATE: This bulletin is effective March 20, 2003.

FOR FURTHER INFORMATION CONTACT: Tim Burke, General Services Administration, Office of Governmentwide Policy (MTT), Washington, DC 20405; e-mail, timothy.burke@gsa.gov; telephone (703) 872-8611.

SUPPLEMENTARY INFORMATION: All Executive agencies will be required to adopt an online booking service to make travel reservations for temporary duty travel. FedTrip, provided by the U.S. Department of Transportation, is an online booking service that is available for use by Executive agencies and should be agencies' first choice for online booking. Of an online booking service is not currently deployed in an agency, officials responsible for managing the agency's travel program should take steps to implement an online booking service including coordination with their Travel Management Center (TMC) where applicable. Executive agency travel managers should contact Arnie Linares at (202) 366-0520 or e-mail arnie.linares@ost.dot.gov to make the necessary arrangements to obtain FedTrip. Executive agency employees should contact their agency's travel office for information on how to make travel arrangements online. Please note that this document implements a new numbering system for FTR bulletins.

Dated: March 14, 2003.
G. Martin Wagner,
Associate Administrator, Office of Governmentwide Policy.

Attachment

March 20, 2003.

[GSA Bulletin FTR 2003-B1]

To: Heads of Executive Agencies.

Subject: eTravel Online Booking Service Availability.

1. Purpose. This bulletin notifies executive agencies of the availability of FedTrip as the online booking service available governmentwide, which should be agencies' first choice for making temporary duty travel arrangements, unless you have another online booking service already deployed. Each executive agency will be required to adopt an online booking service as part of its self-service travel process. Agencies are requested to develop a plan(s) (e.g., budget and personnel alignment) to achieve a high level of online booking service use by December 31, 2003. Such plan(s) will prepare agencies for implementation of the eTravel service, which is part of the President's Management Agenda, and is expected to be available by December 2003.

2. Background. The eTravel initiative was born out of the governmentside task force known as Quick Silver that was established to address performance gaps in existing Government systems as they relate to E-Government, a key component of the President's Management Agenda. The use of an online booking service is an interim stage in the progress toward an integrated self-service travel environment.

3. eTravel Online Booking Service Objective. The objective of an eTravel online booking service is to provide agencies with a Web-based, online booking service that implements a self-service travel booking capability that will eventually become part of the governmentwide eTravel initiative. An online booking service will allow employees to arrange their own air, hotel, and car rental reservations. Providing an online booking service is the initial phase of reengineering the entire travel process to realize significant cost savings to the government, to improve employees' productivity, and to provide a unified, simplified official travel process.

4. Government Interest. The interim use of an outline booking service is in the best interest of the Federal government because:

a. It supports the President's Management Agenda for the expanded use of electronic government;

b. It will improve internal effectiveness and efficiency;

c. It will provide employees with greater flexibility in arranging official travel;

d. FedTrip works with all global distribution systems (GDS) that are currently in use by the government's contracted travel management centers (TMCs), and should be agencies' first choice for online booking;

e. Best practices have shown that significant benefits are optimized when 60% or greater use rates per agency of an online booking service are achieve; and

f. I will produce significant savings and reduce fees paid by the Government.

5. Agency Planning. Under the governmentwide eTravel initiative, agencies will be required to use the governmentwide end-to-end, Web-based travel management service for travel preparations, authorizations and reservations, and payment of vouchers. Agencies should adopt FedTrip as their first-choice interim online booking service (unless another online booking service has already been deployed) until the governmentwide, Web-based end-to-end travel management service is available. Agencies are cautioned against investment in new systems that will be agency-specific and non-transferable to the eTravel service. Additionally, the following measures should be taken to implement an online booking service;

a. Agencies should evaluate their current arrangements for obtaining travel services in order to determine how best to incorporate an online booking service.

b. Each agency is requested to submit a report by December 31, 2003 to the point of contact in paragraph 6 on actions it has taken as of that date to achieve high-level usage of an online booking service for travel. This report should also describe the agency's plans to expand its usage of an online booking service for all of the agency's travel within the subsequent 12 months.

c. Agencies are also requested to provide monthly reports on the number and dollar volume of tickets issued, as well as fees paid for online self-service bookings versus full service transaction. Agencies will benefit from this data enabling them to better manage cost/savings benefits and determining appropriate rate of transfer from a high cost full-service transaction to a lower cost self-service transaction. This information is customarily available from agency TMCs and online booking engine providers. Reports should be submitted within 10 working days after the end of each month to the point of contact in paragraph 6. Agencies are strongly encouraged to use these reports to manage internal savings and monitor their adoption rate of self-service bookings.

d. Agencies should appoint and empower a manager to ensure that desired use rates for an online booking system are achieved.

6. Point of Contact. Tim Burke, Director, Travel Management Policy Division (MTT), Office of Governmentwide Policy, General Services Administration, Washington, DC 20405; telephone 703-872-8611; e-mail, timothy.burke@gsa.gov.

7. Expiration Date. This bulletin expires when the new eTravel services is fully implemented within your agency.

[FR Doc. 03-6662 Filed 3-19-03; 8:45 am]

BILLING CODE 6820-24-M